DEPARTMENT OF DEFENSE

Defense Finance and Accounting Service

Privacy Act of 1974; System of Records

AGENCY: Defense Finance and Accounting Service, DoD.

ACTION: Notice of Altered System of Records.

SUMMARY: The Defense Finance and Accounting Service proposes to alter an existing system of records notice in its inventory of record systems subject to the Privacy Act of 1974, (5 U.S.C. 552a), as amended. The alteration consists of adding four routine uses to permit the release of information to:

The Army Emergency Relief, Navy-Marine Corps Relief Society, and Air Force Assistance Fund to process allotments for repayment of interest-free loans from the society and retiree charitable allotments in support of fund drives initiated by the Secretaries of the Army, Navy, and Air Force. The information will be used to process allotments on behalf of service members and retirees.

Officials and employees of the American Red Cross in the performance of their official duties relating to the assistance of the members and their dependents and relatives.

Former spouses for purposes of providing information, consistent with the requirements of 10 U.S.C. 1450(f)(3), regarding Survivor Benefit Plan coverage.

Spouses for purposes of providing information, consistent with the requirements of 10 U.S.C. 1448(a), regarding Survivor Benefit Plan coverage.

DATES: This action will be effective without further notice on March 24, 2003 unless comments are received that would result in a contrary determination.

ADDRESSES: FOIA/PA Program Manager, Defense Finance and Accounting Service—Denver Center, Specialized Legal Support Division, Office of General Counsel, 6760 E. Irvington Place, Denver, CO 80279-8000.

FOR FURTHER INFORMATION CONTACT: Ms. Linda Krabbenhoft on (303) 676-7514.

SUPPLEMENTARY INFORMATION: The complete inventory of Defense Finance and Accounting Service records system notices subject to the Privacy Act of 1974 (5 U.S.C. 552a), as amended, have been published in the Federal Register and are available from the address above.

The proposed system report, as required by 5 U.S.C. 552a(r) of the Privacy Act of 1974, as amended, was submitted on January 27, 2003, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: February 12, 2003.
Patricia L. Toppings,
Alternate OSD Federal Register Liaison Officer, Department of Defense.

T7347b

System name:

Defense Military Retiree and Annuity Pay System (April 12, 1999, 64 FR 17629).

Changes:

* * * * *

System location:

Delete entry and replace with “Defense Finance and Accounting Service—Cleveland, 1240 East Ninth Street, Cleveland, OH 44199-2055.”

* * * * *

Authority for maintenance of the system:

Delete entry and replace with “5 U.S.C. 301, Departmental Regulations; 10 U.S.C., Chapters 61, 63, 65, 67, 69, 71, 73, 74; Pub. L. 92-425; DoD Financial Management Regulation 7000.14-R, Volume 7B; and E.O. 9397 (SSN).”

* * * * *

Routine uses of records maintained in the system, including categories of users and the purposes of such uses:

Delete the fourth paragraph and replace with “Information is provided to individuals authorized to receive retired and annuitant payments on behalf of retirees or annuitants.”

Add four new paragraphs to the entry.

The Army Emergency Relief, Navy-Marine Corps Relief Society, and Air Force Assistance Fund to process allotments for repayment of interest-free loans from the society and retiree charitable allotments in support of fund drives initiated by the Secretaries of the Army, Navy, and Air Force. The information will be used to process allotments on behalf of service members and retirees.

Officials and employees of the American Red Cross in the performance of their official duties relating to the assistance of the members and their dependents and relatives.

Former spouses for purposes of providing information, consistent with the requirements of 10 U.S.C. 1450(f)(3), regarding Survivor Benefit Plan coverage.

Spouses for purposes of providing information, consistent with the requirements of 10 U.S.C. 1448(a), regarding “Survivor Benefit Plan coverage.”

* * * * *

Retention and disposal:

Delete entry and replace with “Disposition for Retired and Annuitant Pay records range from 30 days to 56 years. The administrative records such as, change of address, electronic messages, or tax records, that are not pay affecting, are destroyed using a retention of 30 days to less than 6 years. All pay affecting documents such as retirement documents, account computation information, or entitlement/eligibility records are retained for six years or more, and the pay histories are retained for 56 years.”

* * * * *

T7347b

System name:

Defense Military Retiree and Annuity Pay System.

System location:

Defense Finance and Accounting Service—Cleveland, 1240 East Ninth Street, Cleveland, OH 44199-2055.

Categories of individuals covered by the system:

Military retirees, their dependents, and their survivors. Categories of records in the system:

Military retiree and annuitant pay master files with supporting documentation relating to entitlements and deductions.

Authority for maintenance of the system:

5 U.S.C. 301, Departmental Regulations; 10 U.S.C., Chapters 61, 63, 65, 67, 69, 71, 73, 74; Pub.L. 92-425; DoD Financial Management Regulation 7000.14-R, Volume 7B; and E.O. 9397 (SSN).

Purpose(s):

To maintain pay and personnel information for use in the computation of military retired pay and survivor annuity pay.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Records are provided to the Internal Revenue Service for normal wage and tax withholding.

Disclosures are made to the Department of Veterans Affairs (DVA) regarding establishments, changes and discontinuing of DVA compensation to retirees and annuitants.

Information is provided to individuals authorized to receive retired and annuitant payments on behalf of retirees or annuitants.

The Army Emergency Relief, Navy-Marine Corps Relief Society, and Air Force Assistance Fund to process allotments for repayment of interest-free loans from the society and retiree charitable allotments in support of fund drives initiated by the Secretaries of the Army, Navy, and Air Force. The information will be used to process allotments on behalf of service members and retirees.

Officials and employees of the American Red Cross in the performance of their official duties relating to the assistance of the members and their dependents and relatives.

Former spouses for purposes of providing information, consistent with the requirements of 10 U.S.C. 1450(f)(3), regarding Survivor Benefit Plan coverage.

Spouses for purposes of providing information, consistent with the requirements of 10 U.S.C. 1448(a), regarding Survivor Benefit Plan coverage.

The DoD “Blanket Routine Uses” published at the beginning of the DFAS compilation of systems of records notices also apply to this system.

Policies and practices for storing, retrieving, accessing, retaining, and disposing of records in the system:

Storage:

Maintained in file folders/notebooks/binder/visible file binders/cabinets/card files, computer magnetic tapes and paper printouts, on roll microfilm, microfiche, and optical disk.

Retrievability:

Retrieved by name and Social Security Number of the retiree or annuitant.

Safeguards:

Records are maintained in a controlled facility. Physical entry is restricted by the use of locks, guards, and is accessible only to authorized personnel. Access to records is limited to person(s) responsible for servicing the record in performance of their official duties and who are properly screened and cleared for need-to-know. Access to computerized data is restricted by passwords, which are changed periodically.

Retention and disposal:

Disposition for Retired and Annuitant Pay records range from 30 days to 56 years. The administrative records such as, change of address, electronic messages, or tax records, that are not pay affecting, are destroyed using a retention of 30 days to less than 6 years. All pay affecting documents such as retirement documents, account computation information, or entitlement/eligibility records are retained for six years or more, and the pay histories are retained for 56 years.

System manager(s) and address:

Policy official: Director of Continuing Government Activity, Defense Finance and Accounting Service—Cleveland, (DFAS-PD/CL), 1240 East Ninth Street, Cleveland, OH 44199-2055.

Record holder: Systems Manager, Affiliated Computer Systems, Defense Finance and Accounting Service—Cleveland, 1240 East Ninth Street, Cleveland OH 44199-2055.

Notification procedure:

Individuals seeking to determine whether information about themselves is contained in this record system should address written inquiries to the Privacy Act Officer, Defense Finance and Accounting Service—Cleveland, Office of General Counsel, (DFAS-GA/CL), 1240 East Ninth Street, Cleveland, OH 44199-8006.

The requester should be able to provide sufficient proof of identity, such as name, Social Security Number, place of employment, or other information available from the record itself.

Record access procedures:

Individuals seeking access to information about themselves contained in this system should address written inquiries to the Privacy Act Officer, Defense Finance and Accounting Service—Cleveland, Office of General Counsel, (DFAS-GA/CL), 1240 East Ninth Street, Cleveland, OH 44199-8006.

The requester should be able to provide sufficient proof of identity, such as name, Social Security Number, place of employment, or other information available from the record itself.

Contesting record procedures:

The DFAS rules for accessing records, for contesting contents and appealing initial agency determinations are published in DFAS Regulation 5400.11-R; 32 CFR part 324; or may be obtained from the Privacy Act Officer at any DFAS Center.

Record source categories:

From the individual concerned; financial, educational, and medical institutions; other DoD Components; state or local governments; and source documents such as reports. Members’ survivors, members, guardians of survivors (children), private law firms which are executors of estates in casualty cases, and other government agencies such as the Department of Veterans Affairs and the Social Security Administration.

Exemptions claimed for the system:

None.

[FR Doc. 03-4067 Filed 2-19-03; 8:45 am]

BILLING CODE 5001-08-P